DEPARTMENT OF THE INTERIOR

Bureau of Land Management

[LLUTCO3000-09-L14300000-ET0000-24-1A00; UTU-87519]

Public Land Order No. 7741; Transfer of Public Land Into Trust for the Shivwits Band of Paiute Indians; UT

AGENCY: Bureau of Land Management, Interior.

ACTION: Public Land Order.

SUMMARY: This order transfers 639 acres of public land into trust to be held by the Secretary of the Interior for the benefit of the Shivwits Band of Paiute Indians of the State of Utah.

DATES: Effective date: May 12, 2010.

FOR FURTHER INFORMATION CONTACT: Kathy Abbott, Bureau of Land Management, St. George Field Office, 345 E. Riverside Drive, St. George, Utah 87790, (435) 688-3234.

SUPPLEMENTARY INFORMATION: Pursuant to the provisions of Section 1982(b)(1) of Public Law 111-11 dated March 30, 2009, the Shivwits Band of the Paiute Indians submitted a request for the Secretary of the Interior to transfer the public land described in this order into trust for the benefit of the Shivwits Tribe.

Order

By virtue of the authority vested in the Secretary of the Interior by Section 1982(b)(1) of the Omnibus Public Land Management Act of 2009 (Pub. L. 111-11), it is ordered as follows:

Subject to valid existing rights, all right, title and interest of the United States in the following described land is hereby transferred into trust to be held by the Secretary of the Interior for the benefit of the Shivwits Band of Paiute Indian Tribe of Utah and shall be considered part of the reservation of the tribe:

Salt Lake Meridian, Utah

T. 42 S., R. 17 W.,

Sec.19.

The area described contains 639.00 acres in Washington County.

Dated: April 28, 2010.
Wilma A. Lewis,
Assistant Secretary—Land and Minerals Management.

[FR Doc. 2010-11248 Filed 5-11-10; 8:45 am]

BILLING CODE 4310-DQ-P